DEPARTMENT OF TREASURY

Internal Revenue Service

Members of Senior Executive Service Performance Review Board

AGENCY: Internal Revenue Service (IRS), Treasury.

ACTION: Notice.

SUMMARY: The purpose of this notice is to publish the names of those IRS employees who will be serving as members on IRS' FY2005 SES Performance Review Board(s).

DATES: This notice is effective October 1, 2005.

FOR FURTHER INFORMATION CONTACT: Lynn Perry, 1111 Constitution Avenue, NW., OS:HC:S, Room 3511, Washington D.C. 20224, (202) 622-5076.

SUPPLEMENTARY INFORMATION: Pursuant to 5 U.S.C. 4314(c)(4), this notice announces the appointment of members of the Internal Revenue Service's Senior Executive Service Performance Review Board. The names and titles of the executives serving on this board follow:

John M. Dalrymple, Deputy Commissioner for Operations Support, and Chairperson, Service-wide Performance Review Board

Mark Matthews, Deputy Commissioner for Services and Enforcement

Evelyn A. Petschek, Chief of Staff

Beverly O. Babers, Chief Human Capital Officer

Gary D. Bell, Director, CI Technical Operations & Investigative Services (CI)

Brady R. Bennett, Director, Collection (SBSE)

Carol A. Barnett, Director, Human Resources (W&I)

John E. Binnion, Associate CIO for Management & Finance (MITS)

Kevin M. Brown, Commissioner, Small Business & Self-Employed

Steven Burgess, Director, Examination (W&I)

Vicki S. Duane, Director, Refund Crimes (CI)

Carl T. Froehlich, Chief, Agency-wide Shared Services

Daniel Galik, Chief, Mission Assurance

Linda Gilpin, Associate CIO, Enterprise Services (MITS)

Arthur L. Gonzalez, Deputy Chief Information Officer

W. Todd Grams, Chief Information Officer

James M. Grimes, Director, Reporting Compliance (W&I)

Robert L. Hunt, Director, Compliance Services (SBSE)

Nancy J. Jardini, Chief, Criminal Investigation

Frank Keith, Chief, Communications and Liaison

Janice Lambert, Chief Financial Officer

Terrence H. Lutes, Associate CIO for Information Technology Services (MITS)

Mark J. Mazur, Director, Research, Analysis & Statistics

David L. Medeck, Director, Customer Accounts Services (W&I)

Steven T. Miller, Commissioner, Tax Exempt and Government Entities

Richard J. Morgante, Commissioner, Wage & Investment

Deborah M. Nolan, Commissioner, Large and Mid-Size Business

Nina E. Olson, National Taxpayer Advocate

James O'Malley, Director, Management & Finance (LMSB)

Mark E. Pursley, Customer Assistance, Relations & Education (W&I)

John M. Robinson, Chief, EEO and Diversity

David B. Robison, Chief, Appeals

Richard Spires, Associate CIO for Modernization Management (MITS)

Linda E. Stiff, Deputy Commissioner, Small Business & Self-Employed

Bruce Unger, Deputy Commissioner, Large & Mid-size Business

Pamela Watson, Deputy Commissioner, Wage & Investment

This document does not meet the Department of Treasury's criteria for significant regulations.

Dated: August 16, 2005.
John M. Dalrymyple,
Deputy Commissioner for Operations Support Internal Revenue Service.

[FR Doc. E5-4559 Filed 8-19-05; 8:45 am]

BILLING CODE 4830-01-P